DEPARTMENT OF HEALTH AND HUMAN SERVICES

Announcement of Anticipated Availability of Funds for Family Planning Services Grants

AGENCY: Department of Health and Human Services, Office of the Secretary, Office of Public Health and Science, Office of Population Affairs.

ACTION: Notice; correction.

SUMMARY: The Office of Population Affairs, OPHS, HHS published a notice in the Federal Register of Friday, May 6, 2005, announcing the anticipated availability of funds for family planning services grants. This notice contained an error. An eligible State/Population/Area was not listed as available for competition in 2006. This Notice corrects the omission of the State of Nebraska State/Population/Area as competitive in 2006.

FOR FURTHER INFORMATION CONTACT: Susan B. Moskosky, 240-453-2818.

Correction

In the Federal Register of May 6, 2005, FR Doc. 05-9017, on page 24266, correct Table I to read:

Table I.
States/populations/areas to be served | Approximate funding available | Application due date | Approx. grant funding date
Region I: No service areas competitive in FY 2006
Region II: No service areas competitive in FY 2006
Region III:
Delaware | $1,062,000 | 12/1/05 | 4/1/06
Pittsburgh, PA | 3,743,000 | 3/1/06 | 7/1/06
Wilkes Barre, PA | 1,588,000 | 3/1/06 | 7/1/06
Region IV:
Alabama | 4,768,000 | 3/1/06 | 7/1/06
Florida | 8,638,000 | 3/1/06 | 7/1/06
Mississippi | 5,009,000 | 3/1/06 | 7/1/06
North Carolina | 6,483,000 | 3/1/06 | 7/1/06
Miami, Florida | 544,000 | 6/1/06 | 9/30/06
Region V:
Indiana | 4,812,000 | 10/1/05 | 2/1/06
Minnesota | 190,000 | 5/30/06 | 9/30/06
Ohio | 4,632,000 | 11/1/05 | 3/1/06
Central Ohio | 701,000 | 11/1/05 | 3/1/06
Ohio, Summit, Portage & Medina Cos. | 782,000 | 3/1/06 | 7/1/06
Region VI:
Oklahoma | 3,681,000 | 8/1/05 | 12/1/05
Eastern Oklahoma, including the Choctaw Nation and the Osage Nation | 475,000 | 8/1/05 | 12/1/05
Region VII:
Missouri | 4,876,000 | 12/1/05 | 4/1/06
Nebraska | 1,782,000 | 3/1/06 | 7/1/06
Region VIII: No service areas competitive in FY-06.
Region IX:
Nevada, Clark County | 923,000 | 9/1/05 | 1/1/06
California, East/Southeast Los Angeles | 400,000 | 9/1/05 | 1/1/06
Hawaii | 1,665,000 | 3/1/06 | 7/1/06
Federated States of Micronesia | 411,000 | 3/1/06 | 7/1/06
Region X: No service areas competitive in FY 2006

Dated: November 2, 2005.
Alma L. Golden,
Deputy Assistant Secretary for Population Affairs.

[FR Doc. 05-22455 Filed 11-9-05; 8:45 am]

BILLING CODE 4150-34-P